DEPARTMENT OF LABOR

Employment and Training Administration

[TA-W-73,722]

Sojitz Corporation of America, a Subsidiary of Sojitz Corporation, Forest Products Department, Seattle, WA; Notice of Affirmative Determination Regarding Application for Reconsideration

By application dated September 23, 2010, by a Washington State workforce official requested administrative reconsideration of the negative determination regarding workers' eligibility to apply for Trade Adjustment Assistance (TAA) applicable to workers and former workers of Sojitz Corporation of America, a subsidiary of Sojitz Corporation, Forest Products Department, Seattle, Washington (subject firm). The determination was issued on September 1, 2010. The Department's Notice of Determination was published in the Federal Register on September 21, 2010 (75 FR 57517). The workers provide services related to the trade of forest products.

The negative determination was based on the findings that the subject firm did not, during the period under investigation, shift to a foreign country the supply of services like or directly competitive with the services performed by the workers or acquire these services from a foreign country; that the workers' separation, or threat of separation, was not related to any increase in imports of like or directly competitive services; and that the workers did not produce an article or supply a service that was directly used in the production of an article or the supply of service by a firm that employed a worker group that is eligible to apply for TAA based on the aforementioned article or service.

In the request for reconsideration, the petitioners alleged that the subject firm has shifted services to a foreign country.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 18th day of October 2010.
Elliott S. Kushner,
Certifying Officer, Office of Trade Adjustment Assistance.

[FR Doc. 2010-27388 Filed 10-28-10; 8:45 am]

BILLING CODE 4510-FN-P